DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301)443-7978.

Survey of Vermont Employers to Assess the Effects of the Vermont Parity Act

New—In support of its mission to support activities related to improving mental health and substance abuse treatment and prevention through demonstration projects, evaluations and service system assessments, SAMHSA is taking advantage of the implementation of the Vermont Parity Act on January 1, 1998. The Vermont Parity Act provides SAMHSA with an important opportunity to study the health insurance coverage impacts of the nation's most comprehensive parity law and to provide useful data to state and federal policy makers, employers, health care providers, advocates, and consumers.

SAMHSA will conduct a telephone survey of private employers in Vermont to assess their responses to the state law. The employer survey will gather information on the effects of the Vermont parity lay on employer-sponsored health insurance coverage. As a study of the most comprehensive state parity law in the nation, this survey will provide SAMHSA its first opportunity to understand: (1) employer knowledge of and satisfaction with parity; (2) estimated effects of parity on employer health care costs; (3) effects of parity on employer health insurance purchasing decisions, such as decisions to self-insure, drop coverage, change insurance carriers, shift a higher share of costs to employees, or carve-out benefits and/or shift to managed care; (4) other changes brought about by parity, such as establishment of employee assistance plans or wellness programs; and (5) suggestions for improving the parity law in the future.

Data will be collected between June and October 2000, a period when employers typically re-evaluate their health insurance coverage decisions for the upcoming fiscal year. Upon completion of the data collection, descriptive and multivariate analyses of employer responses to and satisfaction with parity will be conducted. Responses will be analyzed by employer characteristics such as firm size, location, and type of industry. SAMHSA will use the survey results and survey data to advise governmental bodies such as the National Advisory Mental Health Council (NAMHC), which was charged by the Senate Appropriations Committee in 1996 to provide periodic reports on parity coverage in mental health services “as more data throughout the country become available.” The table below shows the total burden for this one-year study.

Type of interview | Number of respondents | Responses/ respondent | Hours/ response | Total burden hours
Businesses offering insurance(screener & full interview) ¹ | 600 | 1 | .42 | 252
Uninsured businesses (screener & short interview only) ² | 222 | 1 | .25 | 56
Ineligible/nonresponding businesses (screener only) ³ | 489 | 1 | .08 | 39
Total | 1,311 |  |  | 347
¹ Businesses currently offering insurance to employees or that stopped offering insurance to employees after January 1, 1998.
² Businesses that either stopped offering insurance to employees before January 1, 1998 or never offered insurance to employees.
³ Businesses that are no longer in operation or are owned by the state or federal government and non-responding businesses that effuse to participate.

Written comments and recommendations concerning the proposed information collection should be sent within 30 days of this notice to: Allison Eydt, Human Resources and Housing Branch, Office of Management and Budget, New Executive Office Building, Room 10235, Washington, DC 20503.

Dated:March 12, 2000.
Richard Kopanda,
Executive Officer, SAMHSA.

[FR Doc. 00-6909 Filed 3-20-00; 8:45 am]

BILLING CODE 4162-20-P